OFFICE OF PERSONNEL MANAGEMENT

Privacy Act of 1974; Computer Matching Program Between the Office of Personnel Management and Social Security Administration

AGENCY: Office of Personnel Management.

ACTION: Notice of a re-established matching program.

SUMMARY: Pursuant to the Privacy Act of 1974, as amended by the Computer Matching and Privacy Protection Act of 1988 and the Computer Matching Privacy Protections Amendment of 1990 (Privacy Act), and Office of Management and Budget (OMB) guidance on the conduct of matching programs, notice is hereby given of the reestablishment of a matching program between the Office of Personnel Management (OPM) and the Social Security Administration (SSA) (Computer Matching Agreement 1045).

DATES: Please submit comments on or before October 4, 2021. The matching program will begin on [enter 30 days from date of publication] unless comments have been received from interested members of the public that require modification and republication of the notice. The matching program will continue for 18 months from the beginning date and may be extended for an additional 12 months if the respective agency Data Integrity Boards determine that the conditions specified in 5 U.S.C. 552a(o)(D) have been met.

ADDRESSES: You may submit comments via mail to: Deon Mason, Chief, Business Services, Retirement Services and Management, Retirement Services, Office of Personnel Management, Room 3316-G, 1900 E Street NW, Washington, DC 20415 or via email at Deon.mason@opm.gov. You may also submit comments, identified by docket number and title, at the Federal Rulemaking Portal: http://www.regulations.gov by following the instructions for submitting comments. All submissions received must include the agency name and docket number for this document. The general policy for comments and other submissions from members of the public is to make these submissions available for public viewing at http://www.regulations.gov as they are received without change, including any personal identifiers or contact information.

FOR FURTHER INFORMATION CONTACT: Lisa Morgan, Retirement Services, Office of Personnel Management, at (202) 606-5016.

SUPPLEMENTARY INFORMATION: In accordance with the Privacy Act of 1974, as amended by the Computer Matching and Privacy Protection Act of 1988 and the Computer Matching Privacy Protection Amendment of 1990 (Privacy Act), and Office of Management and Budget (OMB) guidance on the conduct of matching programs, including OMB Final Guidance Interpreting the Provision of Public Law 100-53 (published in the Federal Register on June 19,1989 (54 FR 25818) and OMB Circular A-108, notice is hereby given of a re-established matching program between the Office of Personnel Management (OPM) and the Social Security Administration (SSA). This matching program, Computer Matching Agreement 1045, is being reestablished to enable SSA to disclose wage and self-employment income information to OPM. OPM will match SSA's information with OPM's records on disability retirees under age 60, disabled adult child survivors, certain retirees in receipt of a supplemental benefit under the Federal Employees Retirement System (FERS), and certain annuitants receiving a discontinued service retirement benefit under the Civil Service Retirement System (CSRS). The law limits the amount these retirees, survivors, and annuitants can earn while retaining benefits paid to them. Retirement benefits cease upon re-employment in Federal service for discontinued service annuitants. OPM will use the earnings and self-employment information from SSA to determine continued eligibility for benefits under OPM programs.

Participating Agencies: OPM and SSA.

Authority for Conducting the Matching Program: Legal authorities for the disclosures under this agreement are 5 U.S.C. 8337(d), 8341(a)(4)(B), 8344(a)(4)(b), and 8468, which establish earnings limitations for certain CSRS and FERS annuitants. The authority to terminate benefits may be found in 5 U.S.C. 8341(e)(3)(B) and 8443(b)(3)(B). The Internal Revenue Code (IRC), at 26 U.S.C. 6103 (l)(11), requires SSA to disclose tax return information to OPM upon request for purposes of the administration of chapters 83 and 84 of Title 5 of the United States Code.

Purpose: The purpose of this agreement between OPM and SSA is to assist OPM in meeting its legal obligation to offset benefits payable by OPM to annuitants. SSA will disclose income and tax return information to OPM. OPM will use the information obtained from SSA to match against OPM's records of disability retirees under age 60, disabled adult-child survivors, certain retirees receiving supplemental benefit under the Federal Employees Retirement Systems (FERS), and certain annuitants receiving a discontinued service retirement benefit under the Civil Service Retirement System (CSRS). Because the law limits the amount these individuals can earn and still retain the benefits paid to them by OPM, OPM will use the SSA information to determine and individual's continued eligibility to receive a benefit from OPM.

Categories Individuals: The individuals whose information is involved in this matching program are those disability retirees under the age of 60, disabled adult-child survivors, certain retirees in receipt of a supplemental benefit under the FERS, and certain annuitants receiving a discontinued service retirement benefit under the CSRS who receive benefits from OPM. SSA will provide information about these individuals by referencing their master file of all individuals with Social Security numbers (SSN) and their file of earnings and self-employment records.

Categories of Records: The categories of records involved in this matching program include the full name, SSN, date of birth, and the tax year for requested earnings for those individuals about who the match is being conducted. In turn, SSA will disclose the following records to OPM: employer identification number, name, address, wage amount from Form W-2, and earnings amounts form self-employment income.

System(s) of Records: OPM's system of records involved in this matching program is OPM/Central-1, Civil Service Retirement and Insurance Records. 64 FR 54930 (Oct. 8, 1999), as amended at 73 FR 15013 (March 20, 2008). SSA's systems of records involved in this matching program are the Master Files of Social Security Number Holders and SSN Applications, 60-0058, 75 FR 82121 (Dec. 29, 2010) as amended at 78 FR 40542 (July 5, 2013), 79 FR 8780 (Feb. 13, 2014), and 83 FR 31250 (July 3, 2018); and the Master Beneficiary Record (MBR), 60-0090, 71 FR 1826 (Jan. 11, 2006), as amended at 72 FR 69723 (Dec. 10, 2007) and 78 FR 40542 (July 5, 2013); and the Earnings Recording and Self-Employment Income System, 60-0059, 71 FR 1819 (Jan. 11, 2006) as amended at 78 FR 40542 (July 5, 2013).

Office of Personnel Management.
Alexys Stanley,
Regulatory Affairs Analyst.

[FR Doc. 2021-19041 Filed 9-2-21; 8:45 am]

BILLING CODE 6325-38-P